FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202) 523-5793 or tradeanalysis@fmc.gov.

Agreement No.: 201234-006.

Agreement Name: Agreement by Ocean Common Carriers to Participate on the Exchange Board.

Parties: CMA CGM SA; Hapag-Lloyd AG; COSCO Shipping Lines Co., Ltd; COSCO Shipping Co., Ltd.; HMM Company Limited; Maersk A/S; and Ocean Network Express Pte. Ltd. (ONE).

Filing Party: Ashley Craig; Venable LLP.

Synopsis: The Amended would authorize the parties to participate in the governance of New York Shipping Exchange Inc. (“NYSHEX”) including NYSHEX member council meetings, NYSHEX technology council meetings, and other discussions relevant to the management of NYSHEX in addition to participating in NYSHEX Board meetings. The Amended would also remove Ocean Network Express Pte. Ltd. (ONE) and add Mediterranean Shipping Company SA.

Proposed Effective Date: 10/30/2023.

Location: https://www2.fmc.gov/FMC.Agreements.Web/Public/AgreementHistory/2064.

Dated: September 20, 2023.
Carl Savoy,
Federal Register Alternate Liaison Officer, Federal Maritime Commission.

[FR Doc. 2023-20674 Filed 9-22-23; 8:45 am]

BILLING CODE 6730-02-P